DEPARTMENT OF HOMELAND SECURITY

Federal Emergency Management Agency

[Docket ID: FEMA-2023-0011; OMB No. 1660-0015]

Agency Information Collection Activities: Proposed Collection; Comment Request; Revisions to National Flood Insurance Program Maps: Application Forms and Instructions for (C)LOMAs and (C)LOMR-Fs

AGENCY: Federal Emergency Management Agency, Department of Homeland Security.

ACTION: 60-Day notice of revision and request for comments.

SUMMARY: The Federal Emergency Management Agency (FEMA), as part of its continuing effort to reduce paperwork and respondent burden, invites the general public to take this opportunity to comment on an extension, with change of a currently approved information collection. In accordance with the Paperwork Reduction Act of 1995, this notice seeks comments concerning information required by FEMA to amend or revise National Flood Insurance Program (NFIP) maps to remove certain property from the one-percent annual chance floodplain.

DATES: Comments must be submitted on or before June 26, 2023.

ADDRESSES: To avoid duplicate submissions to the docket, please submit comments at www.regulations.gov under Docket ID FEMA-2023-0011. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Bryan Anderson, FEMA, Federal Insurance & Mitigation Administration, at (202) 577-2397 or Bryanb.Anderson@fema.dhs.gov. You may contact the Information Management Division for copies of the proposed collection of information at email address: FEMA-Information-Collections-Management@fema.dhs.gov.

SUPPLEMENTARY INFORMATION: The National Flood Insurance Program (NFIP) is authorized by the National Flood Insurance Act of 1968, as amended, 42 U.S.C. 4001 et seq. The Federal Emergency Management Agency (FEMA) administers the NFIP and maintains the maps that depict flood hazard information. The land area covered by the floodwaters of the base flood is the Special Flood Hazard Area (SFHA) on NFIP maps. The SFHA is the area where the NFIP's floodplain management regulations must be enforced and the area where the mandatory purchase of flood insurance applies. If a SFHA has been determined to exist for property and the owner or lessee of the property believes his/her property has been incorrectly included in a SFHA, information can be provided to support removal of the SFHA designation. NFIP regulations, at 44 CFR parts 65 and 70, outline the data that must be submitted by an owner or lessee of property who believes their property has been incorrectly included in a SFHA. In order to remove an area from a SFHA, the owner or lessee of the property must submit scientific or technical data demonstrating that the area is “reasonably safe from flooding” and not in the SFHA.

This information collection is set to expire on July 31, 2023. FEMA is requesting a revision to the currently approved information collection.

Collection of Information

Title: Revisions to National Flood Insurance Program Maps: Application Forms and Instructions for (C)LOMAs and (C)LOMR-Fs.

Type of Information Collection: Revision of a currently approved information collection.

OMB Number: 1660-0015.

FEMA Forms: FEMA Form FF-206-FY-23-104 (formerly 086-0-22) and FEMA Form FF-206-FY-23-104-A (formerly 086-0-22A (Spanish)), Application Form for Single Residential Lot or Structure Amendments to National Flood Insurance Program Maps; FEMA Form FF-206-FY-23-105 (formerly 086-0-26), Property Information Form; FEMA Form FF-206-FY-23-106 (formerly 086-0-26A), Elevation Form; and FEMA Form FF-206-FY-23-107 (formerly 086-0-26B), Community Acknowledgment Form.

Abstract: FEMA collects scientific and technical data submissions to determine whether a specific property is located within or outside of a SFHA. If the property is determined not to be within a SFHA, FEMA provides a written determination and the appropriate map is modified by a Letter of Map Amendment (LOMA) or a Letter of Map Revision—Based on Fill (LOMR-F), making it possible for the lending institution to waive the flood insurance requirement.

Affected Public: Individuals or households; Business or other for-profit institutions; State, Local or Tribal government.

Estimated Number of Respondents: 67,701.

Estimated Number of Responses: 67,701.

Estimated Total Annual Burden Hours: 71,234.

Estimated Total Annual Respondent Cost: $3,474,941.

Estimated Respondents' Operation and Maintenance Costs: $12,215,500.

Estimated Respondents' Capital and Start-Up Costs: $0.

Estimated Total Annual Cost to the Federal Government: $112,712.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-08703 Filed 4-24-23; 8:45 am]

BILLING CODE 9110-12-P